SOCIAL SECURITY ADMINISTRATION

[Docket No. SSA-2013-0030]

Modifications to the Disability Determination Procedures; Extension of Testing of Some Disability Redesign Features

AGENCY: Social Security Administration.

ACTION: Notice of the extension of tests involving modifications to the disability determination procedures.

SUMMARY: We are announcing the extension of tests involving modifications to disability determination procedures authorized by 20 CFR 404.906 and 416.1406. These rules authorize us to test several modifications to the disability determination procedures for adjudicating claims for disability insurance benefits under title II of the Social Security Act (Act) and for supplemental security income payments based on disability under title XVI of the Act.

DATES: We are extending our selection of cases to be included in these tests from September 27, 2013 until no later than September 26, 2014. If we decide to continue selection of cases for these tests beyond this date, we will publish another notice in the Federal Register.

FOR FURTHER INFORMATION CONTACT: Janet Truhe, Office of Disability Programs, Social Security Administration, 6401 Security Boulevard, Baltimore, MD 21235-6401, (410) 966-7203, for information about this notice. For information on eligibility or filing for benefits, call our national toll-free number, 1-800-772-1213 or TTY 1-800-325-0778, or visit our Internet site, Social Security Online, at http://www.socialsecurity.gov.

SUPPLEMENTARY INFORMATION: Our current rules authorize us to test, individually or in any combination, certain modifications to the disability determination procedures. 20 CFR 404.906 and 416.1406. We conducted several tests under the authority of these rules. In the “single decisionmaker” test, a disability examiner may make the initial disability determination in most cases without obtaining the signature of a medical or psychological consultant. We also conducted a separate test, which we call the “prototype,” in 10 States. 64 FR 47218. Currently, the prototype combines the single decisionmaker approach described above with the elimination of the reconsideration level of our administrative review process.

We extended the time period for selecting claims for these tests several times. Most recently, we extended the time from September 28, 2012 to September 27, 2013. 77 FR 35464. We are extending case selection for the prototype and the single decisionmaker tests until September 26, 2014. If we decide to end any part of these tests in any of the 10 States in which we are conducting the tests prior to September 26, 2014, we will publish another notice in the Federal Register.

Dated: July 17, 2013.
Marianna LaCanfora,
Acting Deputy Commissioner for Retirement and Disability Policy.

[FR Doc. 2013-17753 Filed 7-24-13; 8:45 am]

BILLING CODE 4191-02-P